INTERNATIONAL TRADE COMMISSION

[USITC SE-11-031]

Government In the Sunshine Act Meeting Notice

AGENCY: Agency Holding The Meeting: United States International Trade Commission.

DATES: Time and Date: November 15, 2011 at 11 a.m.

Place: Room 100, 500 E Street SW., Washington, DC 20436, Telephone: (202) 205-2000.

Status: Open to the public.

Matters To Be Considered

1. Agendas for future meetings: none.

2. Minutes.

3. Ratification List.

4. Vote in Inv. Nos. 731-TA-340-E and H (Third Review) (Solid Urea from Russia and Ukraine). The Commission is currently scheduled to transmit its determinations and Commissioners' opinions to the Secretary of Commerce on or before December 5, 2011.

5. Outstanding action jackets: none.

In accordance with Commission policy, subject matter listed above, not disposed of at the scheduled meeting, may be carried over to the agenda of the following meeting.

Issued: November 4, 2011.
By order of the Commission.
William R. Bishop,
Hearings and Meetings Coordinator.

[FR Doc. 2011-29124 Filed 11-7-11; 11:15 am]

BILLING CODE 7020-02-P